DEPARTMENT OF THE INTERIOR

Fish and Wildlife Service

[FWS-HQ-ES-2020-N071; FXES11130900000-201-FF09E32000; OMB Control Number 1018-0095]

Agency Information Collection Activities; Submission to the Office of Management and Budget for Review and Approval; Endangered and Threatened Wildlife, Experimental Populations

AGENCY: Fish and Wildlife Service, Interior.

ACTION: Notice of information collection; request for comment.

SUMMARY: In accordance with the Paperwork Reduction Act, we, the U.S. Fish and Wildlife Service (we, Service), are proposing to renew an existing information collection.

DATES: Interested persons are invited to submit comments on or before September 8, 2020.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: PRB (JAO/3W), 5275 Leesburg Pike, Falls Church, VA 22041-3803 (mail); or by email to Info_Coll@fws.gov. Please reference OMB Control Number 1018-0095 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On February 4, 2020, we published in the Federal Register (85 FR 6212) a notice of our intent to request that OMB approve this information collection. In that notice, we solicited comments for 60 days, ending on April 6, 2020. We received the following comments in response to that notice:

Comment 1—Comment received via email on February 26, 2020, from Jean Public: The commenter did not address the information collection requirements.

Agency Response to Comment 1: No response required.

Comment 2—Comment received via email on April 6, 2020, from Michael Robinson of the Center for Biological Diversity: This comment suggested two additional categories of information collection under this renewal related to depredation-related take. Specifically, Mr. Robinson suggested collecting information on preventative measures taken by landowners to protect livestock prior to implementing lethal take, and to measure the amount of time between a depredation-related take of an individual of an experimental population and renewed depredation of the same landowner's livestock.

Agency Response to Comment 2: Mr. Robinson's suggestions for information collection include data that are already collected and tracked by Service employees as specified in 50 CFR part 17 subpart H, as well as in each species-specific final rule issued by the Service establishing the experimental population. Additionally, the Service acknowledges the usefulness of this type of information and will take into consideration this information in future rulemaking actions.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Section 10(j) of the Endangered Species Act of 1973, as amended (ESA, 16 U.S.C. 1531 et seq.), authorizes the Secretary of the Interior to establish experimental populations of endangered or threatened species. Because the ESA protects individuals of experimental populations, the information we collect is important for monitoring the success of reintroduction and recovery efforts. This is a nonform collection (meaning there is no designated form associated with this collection). Regulations at 50 CFR 17.84 contain information collection requirements for experimental populations of vertebrate endangered and threatened species. These regulations identify and describe the three categories of information we collect, which include:

(1) General take or removal. “Take” is defined by the ESA as “[to] harass, harm, pursue, hunt, shoot, wound, kill, trap, capture, or collect, or to attempt to engage in any such conduct.” In this information collection, take most commonly is considered to be in the form of human-related mortality, including:

a. Unintentional taking incidental to otherwise lawful activities (e.g., highway mortalities);

b. Animal husbandry actions authorized to manage the population (e.g., translocation or providing aid to sick, injured, or orphaned individuals);

c. Take in defense of human life;

d. Take related to defense of property (if authorized); or

e. Take in the form of authorized harassment.

(2) Depredation-related take. Involves take for management purposes of documented livestock depredation, and may include authorized harassment or authorized lethal take of experimental population animals in the act of attacking livestock. See 50 CFR 17.84 for specific provisions of harassment for each species within this section.

The information that we collect includes:

a. Name, address, and phone number of reporting party,

b. Species involved,

c. Type of incident,

d. Quantity of take,

e. Location and time of the reported incident, and

f. Description of the circumstances related to the incident.

(3) Specimen collection, recovery, or reporting of dead individuals. This information documents incidental or authorized scientific collection. Most of the information collected addresses the reporting of sightings of experimental population animals or the inadvertent discovery of an injured or dead individual.

Service recovery specialists use this information to determine the success of reintroductions in relation to established recovery plan goals for the experimental populations of vertebrate endangered and threatened species involved. In addition, this information helps us to assess the effectiveness of control activities in order to develop better means to reduce problems with livestock for those species where depredation is a problem.

Title of Collection: Endangered and Threatened Wildlife, Experimental Populations, 50 CFR 17.84.

OMB Control Number: 1018-0095.

Form Numbers: None.

Type of Review: Extension of a currently approved collection.

Respondents/Affected Public: Individuals and households, private sector, and State/local/Tribal governments.

Respondent's Obligation: Voluntary.

Frequency of Collection: On occasion.

Total Estimated Annual Nonhour Burden Cost: None.

Requirement | Annual number of respondents | Total annual responses | Completion time per response | Total annual burden hours *
Notification—General Take or Removal
Individuals | 12 | 12 | .5 | 6
Private Sector | 7 | 7 | .5 | 4
Government | 29 | 29 | .5 | 15
Notification—Depredation-Related Take
Individuals | 25 | 25 | .5 | 13
Private Sector | 2 | 2 | .5 | 1
Government | 9 | 9 | .5 | 5
Notification—Specimen Collection
Individuals | 3 | 3 | .5 | 2
Private Sector | 2 | 2 | .5 | 1
Government | 16 | 16 | .5 | 8
Totals | 105 | 105 |  | 55
* Rounded.

An agency may not conduct or sponsor and a person is not required to respond to a collection of information unless it displays a currently valid OMB control number.

The authority for this action is the Paperwork Reduction Act of 1995 (44 U.S.C. 3501 et seq.).

Dated: August 4, 2020.
Madonna Baucum,
Information Collection Clearance Officer, U.S. Fish and Wildlife Service.

[FR Doc. 2020-17325 Filed 8-6-20; 8:45 am]

BILLING CODE 4333-15-P